DEPARTMENT OF STATE

[Public Notice 5141]

30-Day Notice of Proposed Information Collection: Form DS-157, Supplemental Nonimmigrant Visa Application, OMB Control Number 1405-0134

ACTION: Notice of request for public comment and submission to OMB of proposed collection of information.

SUMMARY: The Department of State has submitted the following information collection request to the Office of Management and Budget (OMB) for approval in accordance with the Paperwork Reduction Act of 1995.

• Title of Information Collection: Supplemental Nonimmigrant Visa Application.

• OMB Control Number: 1405-0134.

• Type of Request: Extension of a Currently Approved Collection.

• Originating Office: CA/VO.

• Form Number: DS-157.

• Respondents: All nonimmigrant visa applicants.

• Estimated Number of Respondents: 7,000,000 per year.

• Estimated Number of Responses: 7,000,000 per year.

• Average Hours Per Response: 1 hour.

• Total Estimated Burden: 7,000,000 hours per year.

• Frequency: Once per respondent.

• Obligation to Respond: Required to Obtain or Retain a Benefit.

DATES: Submit comments to the Office of Management and Budget (OMB) for up to 30 days from July 27, 2005.

ADDRESSES: Direct comments and questions to Katherine Astrich, the Department of State Desk Officer in the Office of Information and Regulatory Affairs at the Office of Management and Budget (OMB), who may be reached at 202-395-4718. You may submit comments by any of the following methods:

• E-mail: Katherine_T._Astrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: Direct requests for additional information regarding the collections listed in this notice, including requests for copies of the proposed information collection and supporting documents, to Charles Robertson of the Office of Visa Services, U.S. Department of State, 2401 E St. NW., L-603, Washington, DC 20522, who may be reached at 202-663-3969 or robertsonce3@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

Department of State consular officers use Form DS-157 (Supplemental Nonimmigrant Visa Application) in conjunction with Form DS-156 (Nonimmigrant Visa Application, OMB # 1405-0018) to fulfill the legal requirements for aliens to apply for a nonimmigrant visa. The supplemental information requested on the form is limited to that which is necessary for consular officers to determine efficiently the eligibility and classification of aliens seeking nonimmigrant visas to the United States.

Methodology

Form DS-157 will be submitted via mail or fax to U.S. embassies and consulates overseas. A fillable version of the form is available online.

Dated: July 6, 2005.
Janice L. Jacobs,
Deputy Assistant Secretary of State for Visa Services, Bureau of Consular Affairs, Department of State.

[FR Doc. 05-14867 Filed 7-26-05; 8:45 am]

BILLING CODE 4710-06-P